DEPARTMENT OF TRANSPORTATION

Federal Aviation Administration

14 CFR Part 39

[Docket No. FAA-2008-0976; Directorate Identifier 2008-NM-145-AD; Amendment 39-15685; AD 2008-21-01]

RIN 2120-AA64

Airworthiness Directives; Hawker Beechcraft Corporation Model BAe.125 Series 800A (including C-29A and U-125) Airplanes, and Hawker Beechcraft Model Hawker 800XP Airplanes

AGENCY: Federal Aviation Administration (FAA), DOT.

ACTION: Final rule; request for comments.

SUMMARY: We are adopting a new airworthiness directive (AD) for certain Hawker Beechcraft Corporation Model BAe.125 series 800A (including C-29A and U-125) airplanes, and Hawker Beechcraft Model Hawker 800XP airplanes. This AD requires doing an inspection to determine the serial number and part number on the main landing gear (MLG) upper casing, and replacing the MLG assembly with a serviceable MLG assembly if necessary. This AD results from a report indicating that the MLG casings have received improper hydrogen embrittlement relief. We are issuing this AD to prevent a fracture of the MLG casings and a collapse of the affected MLG, which could adversely affect the airplane's continued safe flight and landing.

DATES: This AD is effective October 22, 2008.

The Director of the Federal Register approved the incorporation by reference of a certain publication listed in this AD as of October 22, 2008.

We must receive comments on this AD by December 8, 2008.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this AD, contact Hawker Beechcraft Corporation, 9709 East Central, Wichita, Kansas 67206.

Examining the AD Docket

You may examine the AD docket on the Internet at http://www.regulations.gov; or in person at the Docket Management Facility between 9 a.m. and 5 p.m., Monday through Friday, except Federal holidays. The AD docket contains this AD, the regulatory evaluation, any comments received, and other information. The street address for the Docket Office (telephone 800-647-5527) is in the ADDRESSES section. Comments will be available in the AD docket shortly after receipt.

FOR FURTHER INFORMATION CONTACT: William Griffith, Aerospace Engineer, Airframe Branch, ACE-118W, FAA, Wichita Aircraft Certification Office, 1801 Airport Road, Room 100, Mid-Continent Airport, Wichita, Kansas 67209; telephone (316) 946-4116; fax (316) 946-4107.

SUPPLEMENTARY INFORMATION:

Discussion

We have received a report indicating that the main landing gear (MLG) casings have improper hydrogen embrittlement relief on certain Hawker Beechcraft Corporation Model BAe.125 series 800A (including C-29A and U-125) airplanes, and Hawker Beechcraft Model Hawker 800XP airplanes. Certain MLG casings did not receive proper hydrogen embrittlement relief during production. Improper hydrogen embrittlement relief, if not corrected, could result in a fracture of the MLG casings and a collapse of the affected MLG, which could adversely affect the airplane's continued safe flight and landing.

Relevant Service Information

We have reviewed Hawker Beechcraft Mandatory Service Bulletin SB 32-3920, dated August 2008. The service bulletin describes procedures for doing an inspection to determine the serial number and part number on the MLG assembly, and replacing the MLG assembly with a serviceable MLG assembly if necessary. The service bulletin also specifies to contact the manufacturer to report if any affected serial number is found, return spare parts to the manufacturer and report accomplishment of the service bulletin.

FAA's Determination and Requirements of This AD

We are issuing this AD because we evaluated all the relevant information and determined the unsafe condition described previously is likely to exist or develop in other products of the same type design. This AD requires accomplishing the actions specified in the service information described previously, except as discussed under “Differences Between the Service Bulletin and This AD.”

Differences Between the Service Bulletin and This AD

Although paragraph 1.D., “Compliance” of Hawker Beechcraft Mandatory Service Bulletin SB 32-3920, dated August 2008, specifies a compliance time of within 200 flight cycles since installation of the affected MLG assembly, or within 60 days after the receipt of the service bulletin, whichever occurs first, this AD does not include that compliance time. We have determined that a compliance time of 30 days after the effective date of this AD is necessary to address the unsafe condition. In developing an appropriate compliance time of this AD, we considered the manufacturer's recommendation, the degree of urgency associated with the subject unsafe condition, the average utilization of the affected fleet, and the time necessary to perform the inspection. The difference has been coordinated with Hawker Beechcraft Corporation.

Although the Accomplishment Instructions of Hawker Beechcraft Mandatory Service Bulletin SB 32-3920, dated August 2008, specify the following actions, this AD does not include those requirements.

• Contact the manufacturer if no affected serial number is found;

• Return spare parts to the manufacturer; and

• Report accomplishment of the service bulletin.

The Accomplishment Instructions of Hawker Beechcraft Mandatory Service Bulletin SB 32-3920, dated August 2008, specify to inspect for serial numbers on the MLG assembly to determine if any MLG assembly with a serial number identified in Table 1 of the service bulletin is installed on the airplane. The accomplishment instructions do not specify an inspection to determine if any part identified in the “spares” paragraph 1.A.(2) of the service bulletin is installed. In order to address all affected parts, this AD requires doing an inspection to determine if the serial number and part number of the MLG upper casings are from either Table 1 or paragraph 1.A.(2) of the service bulletin.

FAA's Justification and Determination of the Effective Date

Improper hydrogen embrittlement relief of the MLG casings could result in a fracture of the MLG casings and a collapse of the affected MLG, which could adversely affect the airplane's continued safe flight and landing. Because of our requirement to promote safe flight of civil aircraft and thus, the critical need to assure the proper functioning of the MLG assembly and the short compliance time involved with this action, this AD must be issued immediately.

Because an unsafe condition exists that requires the immediate adoption of this AD, we find that notice and opportunity for prior public comment hereon are impracticable and that good cause exists for making this amendment effective in less than 30 days.

Comments Invited

This AD is a final rule that involves requirements affecting flight safety, and we did not provide you with notice and an opportunity to provide your comments before it becomes effective. However, we invite you to send any written data, views, or arguments about this AD. Send your comments to an address listed under the ADDRESSES section. Include “Docket No. FAA-2008-0976; Directorate Identifier 2008-NM-145-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979), and

(3) Will not have a significant economic impact, positive or negative, on a substantial number of small entities under the criteria of the Regulatory Flexibility Act.

You can find our regulatory evaluation and the estimated costs of compliance in the AD Docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2008-21-01 Hawker Beechcraft Corporation (Formerly Raytheon Aircraft Company): Amendment 39-15685. Docket No. FAA-2008-0976; Directorate Identifier 2008-NM-145-AD.

Effective Date

(a) This airworthiness directive (AD) is effective October 22, 2008.

Affected ADs

(b) None.

Applicability

(c) This AD applies to Hawker Beechcraft Corporation Model BAe.125 series 800A (including C-29A and U-125) airplanes, and Hawker Beechcraft Model Hawker 800XP airplanes, certificated in any category; having serial numbers identified in Hawker Beechcraft Mandatory Service Bulletin SB 32-3920, dated August 2008.

Unsafe Condition

(d) This AD results from a report indicating that the main landing gear (MLG) casings have received improper hydrogen embrittlement relief. We are issuing this AD to prevent a fracture of the MLG casings and a collapse of the affected MLG, which could adversely affect the airplane's continued safe flight and landing.

Compliance

(e) Comply with this AD within the compliance times specified, unless already done.

Inspection

(f) Within 30 days after the effective date of this AD, do the actions specified in paragraphs (f)(1) and (f)(2) of this AD.

(1) Do an inspection to determine whether an MLG upper casing, having a serial number and part number identified in Table 1 of the Accomplishment Instructions of Hawker Beechcraft Mandatory Service Bulletin SB 32-3920, dated August 2008, is installed.

(2) Do an inspection to determine whether an MLG upper casing, having a part number and serial number identified in paragraph 1.A.(2) of Hawker Beechcraft Mandatory Service Bulletin SB 32-3920, dated August 2008, is installed.

Replacement

(g) If any MLG upper casing having a serial number and part number identified in Table 1 of Hawker Beechcraft Mandatory Service Bulletin SB 32-3920, dated August 2008, or in paragraph 1.A.(2) of the service bulletin, is found during the inspection required by paragraph (f) of this AD: Within 30 days after the effective date of this AD, replace the MLG assembly with a serviceable MLG assembly, in accordance with the Accomplishment Instructions of Hawker Beechcraft Mandatory Service Bulletin SB 32-3920, dated August 2008.

Actions Not Required

(h) Although the Accomplishment Instructions of Hawker Beechcraft Mandatory Service Bulletin SB 32-3920, dated August 2008, specify to contact the manufacturer, return spare parts to the manufacturer, and report accomplishment of the service bulletin to the manufacturer, this AD does not include those requirements.

Parts Installation

(i) As of the effective date of this AD, no person may install, on any airplane, a MLG assembly having any serial number identified in Table 1 of the Accomplishment Instructions of Hawker Beechcraft Mandatory Service Bulletin SB 32-3920, dated August 2008.

(j) As of the effective date of this AD, no person may install, on any airplane, a MLG assembly having any serial number and part number identified in paragraph 1.A.(2) of Hawker Beechcraft Mandatory Service Bulletin SB 32-3920, dated August 2008.

Special Flight Permit

(k) Special flight permits, as described in Section 21.197 and Section 21.199 of the Federal Aviation Regulations (14 CFR 21.197 and 21.199), may be issued to operate the airplane to a location where the requirements of this AD can be accomplished, provided that the flight to the flight service center is at the minimum allowed weight. Concurrence by the Manager, Wichita Aircraft Certification Office (ACO), FAA, is required prior to issuance of the special flight permit.

Alternative Methods of Compliance (AMOCs)

(l)(1) The Manager, Wichita ACO, FAA, Attn: William Griffith, Aerospace Engineer, Airframe Branch, ACE-118W, FAA, Wichita ACO, 1801 Airport Road, Room 100, Mid-Continent Airport, Wichita, Kansas 67209; telephone (316) 946-4116; fax (316) 946-4107; has the authority to approve AMOCs for this AD, if requested using the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

Material Incorporated by Reference

(m) You must use Hawker Beechcraft Mandatory Service Bulletin SB 32-3920, dated August 2008, to do the actions required by this AD, unless the AD specifies otherwise.

(1) The Director of the Federal Register approved the incorporation by reference of this service information under 5 U.S.C. 552(a) and 1 CFR part 51.

(2) For service information identified in this AD, contact Hawker Beechcraft Corporation, 9709 East Central, Wichita, Kansas 67206.

(3) You may review copies of the service information incorporated by reference at the FAA, Transport Airplane Directorate, 1601 Lind Avenue, SW., Renton, Washington; or at the National Archives and Records Administration (NARA). For information on the availability of this material at NARA, call 202-741-6030, or go to: http://www.archives.gov/federal_register/code_of_federal_regulations/ibr_locations.html.

Issued in Renton, Washington, on September 20, 2008.
Michael Kaszycki,
Acting Manager, Transport Airplane Directorate, Aircraft Certification Service.

[FR Doc. E8-23400 Filed 10-6-08; 8:45 am]

BILLING CODE 4910-13-P